DEPARTMENT OF VETERANS AFFAIRS

Disciplinary Appeals Board Panel

AGENCY: Department of Veterans Affairs.

ACTION: Notice with request for comments.

SUMMARY: Section 203 of the Department of Veterans Affairs Health Care Personnel Act of 1991 (Pub. L. 102-40), dated May 7, 1991, revised the disciplinary grievance and appeal procedures for employees appointed under 38 U.S.C. 7401(1). It also required the periodic designation of employees of the Department who are qualified to serve on Disciplinary Appeals Boards. These employees constitute the Disciplinary Appeals Board Panel from which Board members in a case are appointed. This notice announces that the roster of employees on the Panel is available for review and comment. Employees, employee organizations, and other interested parties shall be provided, without charge, a list of the names of employees on the Panel upon request and may submit comments concerning the suitability for service on the Panel of any employee whose name is on the list.

DATES: Names that appear on the Panel may be selected to serve on a Board or as a grievance examiner after April 14, 2014.

ADDRESSES: Requests for the list of names of employees on the Panel and written comments may be directed to: Secretary of Veterans Affairs, Department of Veterans Affairs, 810 Vermont Avenue NW., Washington, DC 20420. Requests and comments may also be faxed to (202) 273-9776.

FOR FURTHER INFORMATION CONTACT: Larry Ables, Employee Relations and Performance Management Service, Office of Human Resources Management, Department of Veterans Affairs, 810 Vermont Avenue NW., Mailstop 051, Washington, DC 20420. Mr. Ables may be reached at (202) 461-6172.

SUPPLEMENTARY INFORMATION: Public Law 102-40 requires that the availability of the roster be posted in the Federal Register periodically and not less than annually. The 2013 newly trained Disciplinary Appeals Board members covered by this notice are identified and listed with their positions in Appendix A.

Signing Authority

The Secretary of Veterans Affairs, or designee, approved this document and authorized the undersigned to sign and submit the document to the Office of the Federal Register for publication electronically as an official document of the Department of Veterans Affairs. Jose D. Riojas, Chief of Staff, Department of Veteran Affairs, approved this document on February 25, 2014, for publication.

Dated: March 10, 2014.
William F. Russo,
Deputy Director, Regulation Policy and Management, Office of the General Counsel, Department of Veterans Affairs.

Appendix A

2013 Training Attendees—Disciplinary Appeals Board
Name | Title | Position | VISN
Naomi Alazraki | M.D | Chief, Nuclear Medicine | 7
Gloria Bengoa-Farrington | R.N | Nurse Manager | 12
Alan Bernstein | R.N | Associate Director, Patient Care Services | 17
Kay Bower | R.N | Associate Director, Patient Care Services | 11
Colleen Butler | R.N | Women Veterans Program Manager | 19
J. Michael Casparian | M.D | Chief, Dermatology | 15
Theresa Christenson | R.N | Clinical Nurse Manager | 12
Michael Cook | D.O | Section Chief, Nuclear Medicine | 3
Karin Cooke | R.N | Associate Chief Nurse | 4
Nancy Downey | N.P | Chief, Quality Management | 22
Jean Dunn | R.N | Associate Chief Nurse, VISN 17 | 17
Melissa Edwards | R.N | Chief Nurse | 6
Maura Flynn | N.P | Nurse Practitioner | 1
Sumit Ghosh | M.D | Physician, Gynecology | 4
Phillip Haddad | M.D | Physician, Hematology/Oncology | 16
Sean Hatton | M.D | Chief, Admin Medicine | 7
Michele Hill | R.N | Chief Nurse | 6
Areef Ishani | M.D | Section Chief, Nephrology | 23
Patrice Kennedy | N.P | Nurse Practitioner | 19
Terry Reese | N.P | Nurse Practitioner | 15
Susan Walsh | R.N | Home Based Primary Care Coordinator | 2
Jayson Yap | M.D | Nephrologist | 10
Zahid Yasin | M.D | Physician | 16

[FR Doc. 2014-05580 Filed 3-13-14; 8:45 am]

BILLING CODE 8320-01-P